OFFICE OF NATURAL RESOURCES REVENUE

Major Portion Prices and Due Date for Additional Royalty Payments on Indian Gas Production in Designated Areas Not Associated With an Index Zone; Correction

AGENCY: Office of Natural Resources Revenue (ONRR).

ACTION: Notice; correction.

SUMMARY: The Office of Natural Resources Revenue published a document in the Federal Register of May 8, 2019. This document published the major portion prices for Indian leases and the due date for industry to pay additional royalties based on the major portion prices determined by ONRR. The document contained an incorrect date.

FOR FURTHER INFORMATION CONTACT: Luis Aguilar, (303) 231-3418.

SUPPLEMENTARY INFORMATION:

Correction

In the Federal Register of May 8, 2019, in FR Doc 2019-09404, on page 20162, in the third column, correct the Dates caption to read:

DATES: The due date to pay additional royalties based on the major portion prices is July 31, 2019.

Dated: May 15, 2019.
Gregory J. Gould,
Director for Office of Natural Resources Revenue.

[FR Doc. 2019-10520 Filed 5-20-19; 8:45 am]

BILLING CODE 4335-30-P